DEPARTMENT OF THE TREASURY

Submission for OMB Review; Comment Request

January 26, 2012.

The Department of the Treasury will submit the following information collection request to the Office of Management and Budget (OMB) for review and clearance in accordance with the Paperwork Reduction Act of 1995, Public Law 104-13, on or after the date of publication of this notice.

DATES: Comments should be received on or before March 2, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0008.

Type of Review: Extension without change of a currently approved collection.

Title: Application and Permit to Ship Liquors and Articles of Puerto Rican Manufacture Taxpaid to the United States.

Form: TTB F 5170.7.

Abstract: TTB F 5170.7 is used to document the shipment of taxpaid Puerto Rican Liquors and articles into the U.S. The form is reviewed by Puerto Rican and U.S. Treasury officials to certify that products are either taxpaid or deferred under appropriate bond. This serves as a method of protecting the revenue.

Affected Public: Private Sector: Businesses or other for-profits.

Estimated Total Burden Hours: 100.

Dawn D. Wolfgang,
Treasury PRA Clearance Officer.

[FR Doc. 2012-2105 Filed 1-31-12; 8:45 am]

BILLING CODE 4810-31-P